DEPARTMENT OF LABOR

Veterans' Employment and Training Service

Secretary of Labor's Advisory Committee for Veterans' Employment and Training; Notice of Open Meeting

The Secretary's Advisory Committee for Veterans' Employment and Training was established under section 4110 of title 38, United States Code, to bring to the attention of the Secretary, problems and issues relating to veterans' employment and training.

Notice is hereby given that the Secretary of Labor's Advisory Committee for Veterans' Employment and Training will meet on Thursday, March 27, 2003, beginning at 9 a.m. at the U.S. Department of Labor, 200 Constitution Avenue, NW., Room, S-2508, Washington, DC, 20210.

Written comments may be submitted by addressing them to: Mr. John

Muckelbauer, Designated Federal Official, Office of the Assistant Secretary for Veterans' Employment and Training, U.S. Department of Labor, 200 Constitution Avenue, NW., Room S-1325, Washington, DC, 20210.

The Committee will discuss the implementation of Public Law 107-288, the “Jobs for Veterans Act,” continue its review and discussion of its draft recommendations to the Secretary, and discuss other programs and activities of interest to the Committee. The meeting will be open to the public.

Persons with disabilities needing special accommodations should contact Mr. John Muckelbauer at telephone number (202) 693-4700 no later than March 25, 2003.

Signed at Washington, DC March 10, 2003.
Frederico Juarbe, Jr.,
Assistant Secretary of Labor for Veterans' Employment and Training.

[FR Doc. 03-6146 Filed 3-13-03; 8:45 am]

BILLING CODE 4510-79-P